DEPARTMENT OF AGRICULTURE

Submission for OMB Review; Comment Request

April 1, 2011.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Evaluation of SNAP-Nutrition Education Practices, Wave II.

OMB Control Number: 0584-0554.

Summary of Collection: The Food and Nutrition Service (FNS) of the U.S. Department of Agriculture promotes optimal health and well-being of low-income individuals through improved nutrition and well-designed nutrition education efforts within the Supplemental Nutrition Assistance Program (SNAP). Under Section 17 of the Food and Nutrition Act of 2008 (7 U.S.C. 2026) the Secretary may undertake research that will help improve the administration and effectiveness of the SNAP. The nutrition assistance programs are a critical component to attaining FNS' goals. FNS defines SNAP-Education (SNAP-Ed) activities as those designed to increase the likelihood of healthy food choices by SNAP recipients and those eligible for but who are currently not participating in the program. SNAP has a significant stake in ensuring that nutrition education works to meet these goals. The proposed study titled “Evaluation of SNAP Education Practices, Wave II,” entails the evaluation of three additional model projects and represents an expansion of the ongoing FNS Wave I study.

Need and Use of the Information: FNS will use the collected information to (1) determine which, if any, of the three demonstration projects can serve as good examples of SNAP-Ed delivery that meet the previously described FNS criteria; (2) identify lessons learned in terms of the design, planning, and implementation process and provide recommendations to FNS on how these interventions could be improved to potentially enhance outcomes; and (3) determine which, if any, of the demonstration project-led assessments provide methodologically robust yet logistically practical examples of project-level SNAP-Ed evaluation efforts. If this data collection was not conducted or conducted less frequently, FNS will not be able to determine or improve the administration or effectiveness of SNAP.

Description of Respondents: Individuals or households; State, Local or Tribal Government.

Number of Respondents: 4,717.

Frequency of Responses: Reporting: On occasion.

Total Burden Hours: 2,133.

Ruth Brown,
Departmental Information Collection Clearance Officer.

[FR Doc. 2011-8207 Filed 4-5-11; 8:45 am]

BILLING CODE 3410-30-P